DEPARTMENT OF HEALTH AND HUMAN SERVICES

National Institutes of Health

Fogarty International Center; Amended Notice of Meeting

Notice is hereby given of a change in the meeting of the Fogarty International Center Advisory Board, September 18, 2001, 8:30 am to September 18, 2001, 5 pm, Lawton Chiles International House, 16 Center Drive, (Building 16), Bethesda, MD, 20892 which was published in the Federal Register on September 11, 2001, 66 FR 47234.

The meeting will be held via teleconference on September 18, 2001 at 12 p.m. The meeting is closed to the public.

Dated: September 17, 2001.
LaVerne Y. Stringfield,
Director, Office of Federal Advisory Committee Policy.

[FR Doc. 01-24029 Filed 9-25-01; 8:45 am]

BILLING CODE 4140-01-M